DEPARTMENT OF THE INTERIOR

Bureau of Land Management

[14X.LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the Amended Protraction Diagram (APD), Township 2 North, Range 15 East, accepted November 26, 2013, and officially filed November 26, 2013. This plat supercedes the APD approved June 18, 2003.

This plat was prepared at the request of the Bureau of Land Management.

The plat representing the Amended Protraction Diagram (APD), Township 2 North, Range 15 ½ East, accepted November 26, 2013, and officially filed November 26, 2013.

This plat supercedes the APD approved February 6, 2006.

This plat was prepared at the request of the Bureau of Land Management.

The plat representing the Amended Protraction Diagram (APD), Township 2 North, Range 16 East, accepted November 26, 2013, and officially filed November 26, 2013. This plat supercedes the APD approved July 23, 2003.

This plat was prepared at the request of the Bureau of Land Management.

The plat representing the Amended Protraction Diagram (APD), Township 3 North, Range 16 East, accepted November 26, 2013, and officially filed November 26, 2013. This plat supercedes the APD approved July 23, 2003.

This plat was prepared at the request of the Bureau of Land Management.

The plat representing the Amended Protraction Diagram (APD), Township 9 North, Range 3 East, accepted November 26, 2013, and officially filed November 26, 2013. This plat supercedes the APD approved February 10, 2006.

This plat was prepared at the request of the Bureau of Land Management.

The plat representing the Amended Protraction Diagram (APD), Township 10 North, Range 9 East, accepted November 26, 2013, and officially filed November 26, 2013.

This plat supercedes the APD approved February 10, 2006.

This plat was prepared at the request of the Bureau of Land Management.

The plat representing the Amended Protraction Diagram (APD), Township 10 North, Range 13 East, accepted November 26, 2013, and officially filed November 26, 2013. This plat supercedes the APD approved February 10, 2006.

This plat was prepared at the request of the Bureau of Land Management.

The plat representing the Amended Protraction Diagram (APD), Township 11 North, Range 10 East, accepted November 26, 2013, and officially filed November 26, 2013. This plat supercedes the APD approved February 17, 2006.

This plat was prepared at the request of the Bureau of Land Management.

The plat representing the survey and subdivision of certain sections, Township 39 North, Range 10 East, accepted March 26, 2014, and officially filed March 28, 2014, for Group 1117, Arizona.

This plat was prepared at the request of the Bureau of Indian Affairs.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Daniel L. Maxey,
Chief Cadastral Surveyor of Arizona.

[FR Doc. 2014-08453 Filed 4-14-14; 8:45 am]

BILLING CODE 4310-32-P